DEPARTMENT OF TRANSPORTATION

Federal Railroad Administration

[Docket Number FRA-2006-25765]

Union Pacific Railroad Company; Notice of Withdrawal of Petition for Waiver of Compliance and Cancellation of Public Hearing

On November 28, 2006, FRA published a document in the Federal Register announcing that it had received a petition from the Union Pacific Railroad Company (UP) seeking a waiver of compliance from certain provisions of Brake System Safety Standards for Freight and Other Non-passenger Trains and Equipment, End of Train Devices, Title 49 Code of Federal Regulations (CFR) Part 232; Freight Car Safety Standards, 49 CFR Part 215; and Locomotive Safety Standards, 49 CFR Part 229. 71 FR 68885. The requested relief would have permitted run-through trains that originate in Mexico and are interchanged with the UP at the Laredo, Texas Gateway, to operate into the interior of the United States without having to perform additional train or locomotive inspections at the U.S./Mexican border. In response to the November 28, 2006 notice, an interested party requested a public hearing on the issue and FRA subsequently scheduled a public hearing for February 7, 2007. 72 FR 185 (January 3, 2007).

By a letter dated January 25, 2007, the UP has withdrawn its petition for waiver.

Accordingly, the public hearing scheduled for February 7, 2007, in Laredo, Texas is hereby canceled.

Issued in Washington, DC on January 30, 2007.
Grady C. Cothen, Jr.,
Deputy Associate Administrator for Safety Standards and Program Development.

[FR Doc. E7-1738 Filed 1-31-07; 8:45 am]

BILLING CODE 4910-06-P